DEPARTMENT OF THE INTERIOR

National Park Service

Notice To Terminate the Environmental Impact Statement (EIS) Process for the Special Resource Study (SRS) for Virginia Key Beach Park (VKBP), Biscayne Bay, FL

SUMMARY: Pursuant to section 102(2)(C) of the National Environmental Policy Act of 1969, and National Park Service (NPS) policy in Director's Order 2 (Park Planning) and Director's Order 12 (Conservation Planning, Environmental Impact Analysis, and Decision-making), the NPS is terminating the EIS process for the SRS for VKBP, Biscayne Bay, Florida. The SRS does not find VKBP to be nationally significant or suitable for inclusion in the National Park System and does not require direct NPS management as defined in the NPS Management Policies, 2006. Therefore, inclusion of VKBP in the National Park System is not recommended. Since the SRS is not proposing Federal management of the site, the EIS process is being terminated.

The NPS will conduct local public meetings to inform and receive input from interested parties on the outcome of the SRS. Prior to the meetings a summary newsletter will be distributed. Following the meetings a draft report will be made available for public review.

DATES: The dates and times of the public meetings will be published in local newspapers and on the internet at http://parkplanning.nps.gov. These dates and times may also be obtained by contacting the NPS Southeast Regional Office, Planning and Compliance Division. The NPS anticipates that a draft report will be available for the public in July 2008.

ADDRESSES: The locations of the public meetings will be published in local newspapers and on the internet at http://parkplanning.nps.gov.

Comments should be submitted in writing to the following address: Amy Wirsching, Planning Team Leader, Virginia Key Beach Park Special Resource Study, NPS, Southeast Region, Planning and Compliance Division, 100 Alabama Street, SW., 6th Floor, 1924 Building, Atlanta, Georgia 30303.

FOR FURTHER INFORMATION CONTACT: Amy Wirsching, Planning Team Leader, Virginia Key Beach Park Special Resource Study, 404-562-3124, extension 607.

SUPPLEMENTARY INFORMATION: In the Federal Register Notice of May 13, 2005 (70 FR 25598), the NPS notified interested parties it was preparing an EIS for the SRS for VKBP, Biscayne Bay, Florida. Since that time VKBP has been evaluated to determine if it should be considered for inclusion in the National Park System. The four required criteria are: national significance, suitability, feasibility, and the requirement of direct NPS management. Based on the information that follows, the SRS does not find VKBP to be nationally significant or suitable for inclusion in the National Park System and does not require direct NPS management as defined in the NPS Management Policies, 2006. Therefore, inclusion of VKBP in the National Park System is not recommended. Since the SRS is not proposing Federal management of the site, the EIS process is being terminated.

National Significance: Based upon the opinion of the National Historic Landmarks (NHL) Program and an analysis of the NHL criteria for national significance, the preliminary determination does not find VKBP to be nationally significant as defined in the NPS Management Policies, 2006. The site did not represent a major event or turning point in the national struggle for civil rights, and is not associated importantly with persons nationally significant in the history of the Civil Rights Movement.

Suitability: In assessing a comparison of VKBP to other NPS, State, and local properties, it is apparent that resources similar to those of VKBP are adequately represented by other public entities. In addition, VKBP does not meet the requirements to be categorized in an appropriate NHL theme study. Therefore, VKBP does not meet the criteria to be considered suitable for addition to the National Park System.

Feasibility: Apart from potential NPS operational and development costs, the VKBP site appears to be feasible for inclusion in the National Park System.

Direct NPS Management: The fourth SRS criterion requires direct NPS management instead of protection by other public agencies or the private sector. Based on the amount of current interest to protect and interpret the site by the city of Miami and the current site manager, the VKBP Trust, the determination is that the site does not require direct NPS management for its protection.

Before including your address, phone number, e-mail address, or other personal identifying information in your comment, you should be aware that your entire comment, including your personal identifying information, may be made publicly available at any time. While you can ask us in your comment to withhold your personal identifying information from public review, we cannot guarantee that we will be able to do so.

Authority: The authority for publishing this notice is contained in 40 CFR 1506.6.

The responsible official is Paul R. Anderson, Acting Regional Director, Southeast Region, National Park Service, 100 Alabama Street, SW., 1924 Building, Atlanta, Georgia 30303.

Dated: April 1, 2008.
Paul R. Anderson,
Acting Regional Director, Southeast Region.

[FR Doc. E8-12467 Filed 6-3-08; 8:45 am]

BILLING CODE 4310-MC-P